U.S.-CHINA ECONOMIC AND SECURITY REVIEW COMMISSION

Notice of Open Public Hearing

AGENCY: U.S.-China Economic and Security Review Commission.

ACTION: Notice of open public hearing—March 24, 2009, Washington, DC.

SUMMARY: Notice is hereby given of the following hearing of the U.S.-China Economic and Security Review Commission.

Name: Carolyn Bartholomew, Chairman of the U.S.-China Economic and Security Review Commission.

The Commission is mandated by Congress to investigate, assess, and report to Congress annually on “the national security implications of the economic relationship between the United States and the People's Republic of China.”

Pursuant to this mandate, the Commission will hold a public hearing in Washington, DC on March 24, 2009 to address “China's Industrial Policy and its Impact on U.S. Companies, Workers, and the American Economy.”

Background

This event is the third in a series of public hearings the Commission will hold during its 2009 report cycle to collect input from leading academic, industry, and government experts on national security implications of the U.S. bilateral trade and economic relationship with China. The March 24 hearing will examine the China's pillar and strategic industries, China's use of incentives to attract investment into its pillar and strategic industries, China's telecommunications and information technology (IT) industries, and China's nanotechnology and optoelectronics industries.

The March 24 hearing will be Co-chaired by Commissioners Patrick A. Mulloy and Daniel M. Slane.

Information on hearings, as well as transcripts of past Commission hearings, can be obtained from the USCC Web Site http://www.uscc.gov.

Copies of the hearing agenda will be made available on the Commission's Web Site http://www.uscc.gov as soon as available. Any interested party may file a written statement by March 24, 2009, by mailing to the contact below. On March 24, the hearing will be held in two sessions, one in the morning and one in the afternoon. A portion of each panel will include a question and answer period between the Commissioners and the witnesses.

Date and Time: Tuesday, March 24, 2009, 8:15 a.m. to 5:15 p.m. Eastern Standard Time. A detailed agenda for the hearing will be posted to the Commission's Web site at http://www.uscc.gov in the near future.

ADDRESSES: The address will be posted to the USCC Web Site http://www.uscc.gov as soon as a hearing room is assigned.

FOR FURTHER INFORMATION CONTACT: Any member of the public wishing further information concerning the hearing should contact Kathy Michels, Associate Director for the U.S.-China Economic and Security Review Commission, 444 North Capitol Street, NW., Suite 602, Washington DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: March 3, 2009.
Kathleen J. Michels,
Associate Director, U.S.-China Economic and Security Review Commission.

[FR Doc. E9-4774 Filed 3-5-09; 8:45 am]

BILLING CODE 1137-00-P